RAILROAD RETIREMENT BOARD

20 CFR Part 220

Determining Disability

CFR Correction

This rule is being published by the Office of the Federal Register to correct an editorial or technical error that appeared in the most recent annual revision of the Code of Federal Regulations.

In Title 20 of the Code of Federal Regulations, Parts 1 to 399, revised as of April 1, 2023, in the tables in appendix 3 to part 220, remove “≤” and add “>” wherever it appears in the following entries:

1. Under “C. Cardiac”:

a. Under “Body Part: Cardiac, Confirmatory Tests”, under “Coronary artery disease:”, the entry for “Angiography”;

b. Under “Body Part: Cardiac, Job Title: Trainman”:

i. Under “Hypertension:”, the entry for “Medical record review”, in all places;

ii. Under “Arrhythmia: heart block:”, the entry for “Holter”;

c. Under “Body Part: Cardiac, Job Title: Engineer”:

i. Under “Hypertension:”, the entry for “Medical record review”, in all places;

ii. Under “Arrhythmia: heart block:”, the entry for “Holter”;

d. Under “Body Part: Cardiac, Job Title: Dispatcher”:

i. Under “Hypertension:”, the entry for “Medical record review”, in all places;

ii. Under “Arrhythmia: heart block:”, the entry for “Holter”;

e. Under Body “Part: Cardiac, Job Title: Carman”:

i. Under “Hypertension:”, the entry for “Medical record review”, in all places;

ii. Under “Arrhythmia: heart block:”, the entry for “Holter”;

f. Under “Body Part: Cardiac, Job Title: Signalman”:

i. Under “Hypertension:”, the entry for “Medical record review”, in all places;

ii. Under “Arrhythmia: heart block:”, the entry for “Holter”;

g. Under “Body Part: Cardiac, Job Title: Trackman”:

i. Under “Hypertension:”, the entry for “Medical record review”, in all places;

ii. Under “Arrhythmia: heart block:”, the entry for “Holter”;

h. Under “Body Part: Cardiac, Job Title: Machinist”:

i. Under “Hypertension:”, the entry for “Medical record review”, in all places;

ii. Under “Arrhythmia: heart block:”, the entry for “Holter”;

i. Under “Body Part: Cardiac, Job Title: Shop Laborer”:

i. Under “Hypertension:”, the entry for “Medical record review”, in all places;

ii. Under “Arrhythmia: heart block:”, the entry for “Holter”;

j. Under “Body Part: Cardiac, Job Title: Sales Representative”:

i. Under “Hypertension:”, the entry for “Medical record review”, in all places;

ii. Under “Arrhythmia: heart block:”, the entry for “Holter”;

k. Under “Body Part: Cardiac, Job Title: General Office Clerk”, under “Arrhythmia: heart block:”, the entry for “Holter”;

2. Under “D. Respiratory”:

a. Under “Body Part: Respiratory Confirmatory Tests”, under “Asthma:”, the entry for “Spirometry” and the first “≤” in the entry for “Methacholine challenge test”;

b. Under “Body Part: Respiratory, Job Title: Trainman”:

i. Under “Bronchiectasis:”, the entries for “Resting ABG” and “Pulmonary exercise test or exercise ABG”;

ii. Under “Chronic bronchitis:”, the entries for “Resting ABG” and “Pulmonary exercise test or exercise ABG”;

iii. Under “Chronic obstructive pulmonary disease (COPD):”, the entries for “Resting ABG” and “Pulmonary exercise test or exercise ABG”;

iv. Under “Pulmonary fibrosis:”, the entries for “Resting ABG” and “Pulmonary exercise test or exercise ABG”;

v. Under “Restrictive lung disease:”, the entry for “Pulmonary exercise test or exercise ABG”;

vi. Under “Silicosis:”, the entry for “Resting ABG”;

c. Under “Body Part: Respiratory, Job Title: Carman”:

i. Under “Bronchiectasis:”, the entries for “Resting ABG” and “Pulmonary exercise test or exercise ABG”;

ii. Under “Chronic bronchitis:”, the entries for “Resting ABG” and “Pulmonary exercise test or exercise ABG”;

iii. Under “Chronic obstructive pulmonary disease (COPD):”, the entries for “Resting ABG” and “Pulmonary exercise test or exercise ABG”;

iv. Under “Pulmonary fibrosis:”, the entries for “Resting ABG” and “Pulmonary exercise test or exercise ABG”;

v. Under “Restrictive lung disease:”, the entry for “Pulmonary exercise test or exercise ABG”;

vi. Under “Silicosis:”, the entry for “Resting ABG”;

d. Under “Body Part: Respiratory, Job Title: Signalman”:

i. Under “Bronchiectasis:”, the entries for “Resting ABG” and “Pulmonary exercise test or exercise ABG”;

ii. Under “Chronic bronchitis:”, the entries for “Resting ABG” and “Pulmonary exercise test or exercise ABG”;

iii. Under “Chronic obstructive pulmonary disease (COPD):”, the entries for “Resting ABG” and “Pulmonary exercise test or exercise ABG”;

iv. Under “Pulmonary fibrosis:”, the entries for “Resting ABG” and “Pulmonary exercise test or exercise ABG”;

v. Under “Restrictive lung disease:”, the entry for “Pulmonary exercise test or exercise ABG”;

vi. Under “Silicosis:”, the entry for “Resting ABG”;

e. Under “Body Part: Respiratory, Job Title: Trackman”:

i. Under “Bronchiectasis:”, the entries for “Resting ABG” and “Pulmonary exercise test or exercise ABG”;

ii. Under “Chronic bronchitis:”, the entries for “Resting ABG” and “Pulmonary exercise test or exercise ABG”;

iii. Under “Chronic obstructive pulmonary disease (COPD):”, the entries for “Resting ABG” and “Pulmonary exercise test or exercise ABG”;

iv. Under “Pulmonary fibrosis:”, the entries for “Resting ABG” and “Pulmonary exercise test or exercise ABG”;

v. Under “Restrictive lung disease:”, the entry for “Pulmonary exercise test or exercise ABG”;

vi. Under “Silicosis:”, the entry for “Resting ABG”;

f. Under “Body Part: Respiratory, Job Title: Machinist”:

i. Under “Bronchiectasis:”, the entries for “Resting ABG” and “Pulmonary exercise test or exercise ABG”;

ii. Under “Chronic bronchitis:”, the entries for “Resting ABG” and

“Pulmonary exercise test or exercise ABG”;

iii. Under “Chronic obstructive pulmonary disease (COPD):”, the entries for “Resting ABG” and “Pulmonary exercise test or exercise ABG”;

iv. Under “Pulmonary fibrosis:”, the entries for “Resting ABG” and “Pulmonary exercise test or exercise ABG”;

v. Under “Restrictive lung disease:”, the entry for “Pulmonary exercise test or exercise ABG”;

vi. Under “Silicosis:”, the entry for “Resting ABG”;

g. Under “Body Part: Respiratory, Job Title: Shop Laborer”:

i. Under “Bronchiectasis:”, the entries for “Resting ABG” and “Pulmonary exercise test or exercise ABG”;

ii. Under “Chronic bronchitis:”, the entries for “Resting ABG” and “Pulmonary exercise test or exercise ABG”;

iii. Under “Chronic obstructive pulmonary disease (COPD):”, the entries for “Resting ABG” and “Pulmonary exercise test or exercise ABG”;

iv. Under “Pulmonary fibrosis:”, the entries for “Resting ABG” and “Pulmonary exercise test or exercise ABG”;

v. Under “Restrictive lung disease:”, the entry for “Pulmonary exercise test or exercise ABG”;

vi. Under “Silicosis:”, the entry for “Resting ABG”;

3. Under “F. Cervical Spine”, under “Body Part: CE Spine, Confirmatory Tests”, under “Radiculopathy:”, the second entry for “Physical examination: arm”;

4. Under “G. Shoulder and Elbow”:

a. Under “Body Part: Shoulder and Elbow, Job Title: Trainman”, under “Permanent functional limitation, elbow:”, the entry for “Physical examination”;

b. Under “Body Part: Shoulder and Elbow, Job Title: Engineer”, under “Permanent functional limitation, elbow:”, the entry for “Physical examination”;

c. Under “Body Part: Shoulder and Elbow, Job Title: Carman”, under “Permanent functional limitation, elbow:”, the entry for “Physical examination”;

d. Under “Body Part: Shoulder and Elbow, Job Title: Signalman”, under “Permanent functional limitation, elbow:”, the entry for “Physical examination”;

e. Under “Body Part: Shoulder and Elbow, Job Title: Trackman”, under “Permanent functional limitation, elbow:”, the entry for “Physical examination”;

f. Under “Body Part: Shoulder and Elbow, Job Title: Machinist”, under “Permanent functional limitation, elbow:”, the entry for “Physical examination”;

g. Under “Body Part: Shoulder and Elbow, Job Title: Shop Laborer”, under “Permanent functional limitation, elbow:”, the entry for “Physical examination”;

5. Under “H. Hand and Arm”:

a. Under “Body Part: Hand and Arm, Job Title: Trainman”:

i. Under “Fracture, wrist:”, the third entry for “Physical examination—range of motion”;

ii. Under “Wrist: permanent functional limitation:”, the third entry for “Physical examination—range of motion”;

b. Under “Body Part: Hand and Arm, Job Title: Engineer”:

i. Under “Fracture, wrist:”, the third entry for “Physical examination—range of motion”;

ii. Under “Wrist: permanent functional limitation:”, the third entry for “Physical examination—range of motion”;

c. Under “Body Part: Hand and Arm, Job Title: Dispatcher”:

i. Under “Fracture, wrist:”, the third entry for “Physical examination—range of motion”;

ii. Under “Wrist: permanent functional limitation:”, the third entry for “Physical examination—range of motion”;

d. Under “Body Part: Hand and Arm, Job Title: Carman”:

i. Under “Fracture, wrist:”, the third entry for “Physical examination—range of motion”;

ii. Under “Wrist: permanent functional limitation:”, the third entry for “Physical examination—range of motion”;

e. Under “Body Part: Hand and Arm, Job Title: Signalman”:

i. Under “Fracture, wrist:”, the third entry for “Physical examination—range of motion”;

ii. Under “Wrist: permanent functional limitation:”, the third entry for “Physical examination—range of motion”;

f. Under “Body Part: Hand and Arm, Job Title: Trackman”:

i. Under “Fracture, wrist:”, the third entry for “Physical examination—range of motion”;

ii. Under “Wrist: permanent functional limitation:”, the third entry for “Physical examination—range of motion”;

g. Under “Body Part: Hand and Arm, Job Title: Machinist”:

i. Under “Fracture, wrist:”, the third entry for “Physical examination—range of motion”;

ii. Under “Wrist: permanent functional limitation:”, the third entry for “Physical examination—range of motion”;

h. Under “Body Part: Hand and Arm, Job Title: Shop Laborer”:

i. Under “Fracture, wrist:”, the third entry for “Physical examination—range of motion”;

ii. Under “Wrist: permanent functional limitation:”, the third entry for “Physical examination—range of motion”;

i. Under “Body Part: Hand and Arm, Job Title: Sales Representative”:

i. Under “Fracture, wrist:”, the third entry for “Physical examination—range of motion”;

ii. Under “Wrist: permanent functional limitation:”, the third entry for “Physical examination—range of motion”;

j. Under “Body Part: Hand and Arm, Job Title: General Office Clerk”:

i. Under “Fracture, wrist:”, the third entry for “Physical examination—range of motion”;

ii. Under “Wrist: permanent functional limitation:”, the third entry for “Physical examination—range of motion”;

6. Under “I. Hip”:

a. Under “Body Part: Hip, Job Title: Trainman”, under “Ankylosis, hip:”, all entries for “Physical examination—range of motion”;

b. Under “Body Part: Hip, Job Title: Engineer”, under “Ankylosis, hip:”, all entries for “Physical examination—range of motion”;

c. Under “Body Part: Hip, Job Title: Carman”, under “Ankylosis, hip:”, all entries for “Physical examination—range of motion”;

d. Under “Body Part: Hip, Job Title: Signalman”, under “Ankylosis, hip:”, all entries for “Physical examination—range of motion”;

e. Under “Body Part: Hip, Job Title: Trackman”, under “Ankylosis, hip:”, all entries for “Physical examination—range of motion”;

f. Under “Body Part: Hip, Job Title: Machinist”, under “Ankylosis, hip:”, all entries for “Physical examination—range of motion”;

g. Under “Body Part: Hip, Job Title: Shop Laborer”, under “Ankylosis, hip:”, all entries for “Physical examination—range of motion”;

7. Under “J. Knee”:

a. Under “Body Part: Knee, Job Title: Trainman”:

i. Under “Arthritis knee:”, the second entry for “Physical examination—range of motion”;

ii. Under “Meniscectomy, medial or lateral:”, the second entry for “Physical examination—range of motion”;

iii. Under “Collateral ligament tear with laxity:”, the second entry for “Physical examination—range of motion”;

iv. Under “Cruciate and collateral ligament tear:”, the second entry for “Physical examination—range of motion”;

v. Under “Cruciate ligament tear with laxity:”, the second entry for “Physical examination—range of motion”:

vi. Under “Intercondylar fracture:”, the entry for “Post fracture angulation” and the second entry for “Physical examination—range of motion”;

vii. Under “Osteomyelitis, chronic knee:”, the second entry for “Physical examination—range of motion”;

viii. Under “Osteonecrosis:”, the second entry for “Physical examination—range of motion”;

ix. Under “Patellofemoral arthritis:”, the second entry for “Physical examination—range of motion”;

x. Under “Patellar fracture nonunion with displacement:”, the second entry for “Physical examination—range of motion” and the entry for “X-ray knee”;

xi. Under “Plateau fracture:”, the entry for “Post fracture angulation” and the second entry for “Physical examination—range of motion”;

xii. Under “Patellectomy:”, the second entry for “Physical examination—range of motion”;

xiii. Under “Patellar, subluxation, recurrent:”, the second entry for “Physical examination—range of motion”;

xiv. Under “Supracondylar fracture:”, the entry for “Post fracture angulation” and the second entry for “Physical examination—range of motion”;

xv. Under “Tibial shaft fracture:”, the second entry for “Physical examination—range of motion” and the entry for “Post fracture angulation”;

b. Under “Body Part: Knee, Job Title: Engineer”:

i. Under “Arthritis knee:”, the second entry for “Physical examination—range of motion”;

ii. Under “Meniscectomy, medial or lateral:”, the second entry for “Physical examination—range of motion”;

iii. Under “Collateral ligament tear with laxity:”, the second entry for “Physical examination—range of motion”;

iv. Under “Cruciate and collateral ligament tear:”, the second entry for “Physical examination—range of motion”;

v. Under “Cruciate ligament tear with laxity:”, the second entry for “Physical examination—range of motion”;

vi. Under “Intercondylar fracture:”, the entry for “Post fracture angulation” and the second entry for “Physical examination—range of motion”;

vii. Under “Osteomyelitis, chronic knee:”, the second entry for “Physical examination—range of motion”;

viii. Under “Osteonecrosis:”, the second entry for “Physical examination—range of motion”;

ix. Under “Patellofemoral arthritis:”, the second entry for “Physical examination—range of motion”;

x. Under “Patellar fracture nonunion with displacement:”, the second entry for “Physical examination—range of motion” and the entry for “X-ray knee”;

xi. Under “Plateau fracture:”, the entry for “Post fracture angulation” and the second entry for “Physical examination—range of motion”;

xii. Under “Patellectomy:”, the second entry for “Physical examination—range of motion”;

xiii. Under “Patellar, subluxation, recurrent:”, the second entry for “Physical examination—range of motion”;

xiv. Under “Supracondylar fracture:”, the entry for “Post fracture angulation” and the second entry for “Physical examination—range of motion”;

xv. Under “Tibial shaft fracture:”, the second entry for “Physical examination—range of motion” and the entry for “Post fracture angulation”;

c. Under “Body Part: Knee, Job Title: Carman”:

i. Under “Arthritis knee:”, the second entry for “Physical examination—range of motion”;

ii. Under “Meniscectomy, medial or lateral:”, the second entry for “Physical examination—range of motion”;

iii. Under “Collateral ligament tear with laxity:”, the second entry for “Physical examination—range of motion”;

iv. Under “Cruciate and collateral ligament tear:”, the second entry for “Physical examination—range of motion”;

v. Under “Cruciate ligament tear with laxity:”, the second entry for “Physical examination—range of motion”;

vi. Under “Intercondylar fracture:”, the entry for “Post fracture angulation” and the second entry for “Physical examination—range of motion”;

vii. Under “Osteomyelitis, chronic knee:”, the second entry for “Physical examination—range of motion”;

viii. Under “Osteonecrosis:”, the second entry for “Physical examination—range of motion”;

ix. Under “Patellofemoral arthritis:”, the second entry for “Physical examination—range of motion”;

x. Under “Patellar fracture nonunion with displacement:”, the second entry for “Physical examination—range of motion” and the entry for “X-ray knee”;

xi. Under “Plateau fracture:”, the entry for “Post fracture angulation”, and the second entry for “Physical examination—range of motion”;

xii. Under “Patellectomy:”, the second entry for “Physical examination—range of motion”;

xiii. Under “Patellar, subluxation, recurrent:”, the second entry for “Physical examination—range of motion”;

xiv. Under “Supracondylar fracture:”, the entry for “Post fracture angulation” and the second entry for “Physical examination—range of motion”;

xv. Under “Tibial shaft fracture:”, the second entry for “Physical examination—range of motion” and the entry for “Post fracture angulation”;

d. Under “Body Part: Knee, Job Title: Signalman”:

i. Under “Arthritis knee:”, the second entry for “Physical examination—range of motion”;

ii. Under “Meniscectomy, medial or lateral:”, the second entry for “Physical examination—range of motion”;

iii. Under “Collateral ligament tear with laxity:”, the second entry for “Physical examination—range of motion”;

iv. Under “Cruciate and collateral ligament tear:”, the second entry for “Physical examination—range of motion”;

v. Under “Cruciate ligament tear with laxity:”, the second entry for “Physical examination—range of motion”;

vi. Under “Intercondylar fracture:”, the entry for “Post fracture angulation” and the second entry for “Physical examination—range of motion”;

vii. Under “Osteomyelitis, chronic knee:”, the second entry for “Physical examination—range of motion”;

viii. Under “Osteonecrosis:”, the second entry for “Physical examination—range of motion”;

ix. Under “Patellofemoral arthritis:”, the second entry for “Physical examination—range of motion”;

x. Under “Patellar fracture nonunion with displacement:”, the second entry for “Physical examination—range of motion” and the entry for “X-ray knee”;

xi. Under “Plateau fracture:”, the entry for “Post fracture angulation” and the second entry for “Physical examination—range of motion”;

xii. Under “Patellectomy:”, the second entry for “Physical examination—range of motion”;

xiii. Under “Patellar, subluxation, recurrent:”, the second entry for “Physical examination—range of motion”;

xiv. Under “Supracondylar fracture:”, the entry for “Post fracture angulation” and the second entry for the second entry for “Physical examination—range of motion”;

xv. Under “Tibial shaft fracture:”, the second entry for “Physical examination—range of motion” and the entry for “Post fracture angulation”;

e. Under “Body Part: Knee, Job Title: Trackman”:

i. Under “Arthritis knee:”, the second entry for “Physical examination—range of motion”;

ii. Under “Meniscectomy, medial or lateral:”, the second entry for “Physical examination—range of motion”;

iii. Under “Collateral ligament tear with laxity:”, the second entry for “Physical examination—range of motion”;

iv. Under “Cruciate and collateral ligament tear:”, the second entry for “Physical examination—range of motion”;

v. Under “Cruciate ligament tear with laxity:”, the second entry for “Physical examination—range of motion”;

vi. Under “Intercondylar fracture:”, the entry for “Post fracture angulation” and the second entry for “Physical examination—range of motion”;

vii. Under “Osteomyelitis, chronic knee:”, the second entry for “Physical examination—range of motion”;

viii. Under “Osteonecrosis:”, the second entry for “Physical examination—range of motion”;

ix. Under “Patellofemoral arthritis:”, the second entry for “Physical examination—range of motion”;

x. Under “Patellar fracture nonunion with displacement:”, the second entry for “Physical examination—range of motion” and the entry for “X-ray knee”;

xi. Under “Plateau fracture:”, the entry for “Post fracture angulation” and the second entry for “Physical examination—range of motion”;

xii. Under “Patellectomy:”, the second entry for “Physical examination—range of motion”;

xiii. Under “Patellar, subluxation, recurrent:”, the second entry for Physical examination—range of motion”;

xiv. Under “Supracondylar fracture:”, the entry for “Post fracture angulation” and the second entry for “Physical examination—range of motion”;

xv. Under “Tibial shaft fracture:”, the second entry for “Physical examination—range of motion” and the entry for “Post fracture angulation”;

f. Under “Body Part: Knee, Job Title: Machinist”:

i. Under “Arthritis knee:”, the second entry for “Physical examination—range of motion”;

ii. Under “Meniscectomy, medial or lateral:”, the second entry for “Physical examination—range of motion”;

iii. Under “Collateral ligament tear with laxity:”, the second entry for “Physical examination—range of motion”;

iv. Under “Cruciate and collateral ligament tear:”, the second entry for “Physical examination—range of motion”;

v. Under “Cruciate ligament tear with laxity:”, the second entry for “Physical examination—range of motion”;

vi. Under “Intercondylar fracture:”, the entry for “Post fracture angulation” and the second entry for “Physical examination—range of motion”;

vii. Under “Osteomyelitis, chronic knee:”, the second entry for “Physical examination—range of motion”;

viii. Under “Osteonecrosis:”, the second entry for “Physical examination—range of motion”;

ix. Under “Patellofemoral arthritis:”, the second entry for “Physical examination—range of motion”;

x. Under “Patellar fracture nonunion with displacement:”, the second entry for “Physical examination—range of motion” and the entry for “X-ray knee”;

xi. Under “Plateau fracture:”, the entry for “Post fracture angulation” and the second entry for “Physical examination—range of motion”;

xii. Under “Patellectomy:”, the second entry for “Physical examination—range of motion”;

xiii. Under “Patellar, subluxation, recurrent:”, the second entry for “Physical examination—range of motion”;

xiv. Under “Supracondylar fracture:”, the entry for “Post fracture angulation” and the second entry for “Physical examination—range of motion”;

xv. Under “Tibial shaft fracture:”, the second entry for “Physical examination—range of motion” and the entry for “Post fracture angulation”;

g. Under “Body Part: Knee, Job Title: Shop Laborer”:

i. Under “Arthritis knee:”, the second entry for “Physical examination—range of motion”;

ii. Under “Meniscectomy, medial or lateral:”, the second entry for “Physical examination—range of motion”;

iii. Under “Collateral ligament tear with laxity:”, the second entry for “Physical examination—range of motion”;

iv. Under “Cruciate and collateral ligament tear:”, the second entry for “Physical examination—range of motion”;

v. Under “Cruciate ligament tear with laxity:”, the second entry for “Physical examination—range of motion”;

vi. Under “Intercondylar fracture:”, the entry for “Post fracture angulation” and the second entry for “Physical examination—range of motion”;

vii. Under “Osteomyelitis, chronic knee:”, the second entry for “Physical examination—range of motion”;

viii. Under “Osteonecrosis:”, the second entry for “Physical examination—range of motion”;

ix. Under “Patellofemoral arthritis:”, the second entry for “Physical examination—range of motion”;

x. Under “Patellar fracture nonunion with displacement:”, the second entry for “Physical examination—range of motion” and the entry for “X-ray knee”;

xi. Under “Plateau fracture:”, the entry for “Post fracture angulation” and the second entry for “Physical examination—range of motion”;

xii. Under “Patellectomy:”, the second entry for “Physical examination—range of motion”;

xiii. Under “Patellar, subluxation, recurrent:”, the second entry for “Physical examination—range of motion”;

xiv. Under “Supracondylar fracture:”, the entry for “Post fracture angulation” and the second entry for “Physical examination—range of motion”;

xv. Under “Tibial shaft fracture:”, the second entry for “Physical examination—range of motion” and the entry for “Post fracture angulation”;

8. Under “K. Ankle and Foot”:

a. Under “Body Part: Ankle and Foot, Job Title: Trainman”:

i. Under “Ankle fracture:”, the entry for “Physical examination”;

ii. Under “Ankylosis, ankle:”, the third entry for “Physical examination—range of motion”;

iii. Under “Arthritis, subtalar joint (hindfoot):”, the entry for “Physical examination”;

iv. Under “Arthritis, talonavicular joint (hindfoot):”, the entry for “Physical examination”;

v. Under “Arthritis, ankle:”, the entry for “Physical examination”;

vi. Under “Hindfoot fracture:”, both entries for “Physical examination”;

b. Under “Body Part: Ankle and Foot, Job Title: Engineer”:

i. Under “Ankle fracture:”, the entry for “Physical examination”;

ii. Under “Ankylosis, ankle:”, the first and third entries for “Physical examination—range of motion”;

iii. Under “Arthritis, subtalar joint (hindfoot):”, the entry for “Physical examination”;

iv. Under “Arthritis, talonavicular joint (hindfoot):”, the entry for “Physical examination”;

v. Under “Arthritis, ankle:”, the entry for “Physical examination”;

vi. Under “Hindfoot fracture:”, both entries for “Physical examination”;

c. Under “Body Part: Ankle and Foot, Job Title: Dispatcher”:

i. Under “Arthritis, ankle:”, the entry for “Physical examination”;

ii. Under “Hindfoot fracture:”, both entries for “Physical examination”;

d. Under “Body Part: Ankle and Foot, Job Title: Carman”:

i. Under “Ankle fracture:”, the entry for “Physical examination”;

ii. Under “Ankylosis, ankle:”, the first and third entries for “Physical examination—range of motion”;

iii. Under “Arthritis, subtalar joint (hindfoot):”, the entry for “Physical examination”;

iv. Under “Arthritis, talonavicular joint (hindfoot):”, the entry for “Physical examination”;

v. Under “Arthritis, ankle:”, the entry for “Physical examination”;

vi. Under “Hindfoot fracture:”, both entries for “Physical examination”;

e. Under “Body Part: Ankle and Foot, Job Title: Signalman”:

i. Under “Ankle fracture:”, the entry for “Physical examination”;

ii. Under “Ankylosis, ankle:”, the first and third entries for “Physical examination—range of motion”;

iii. Under “Arthritis, subtalar joint (hindfoot):”, the entry for “Physical examination”;

iv. Under “Arthritis, talonavicular joint (hindfoot):”, the entry for “Physical examination”;

v. Under “Arthritis, ankle:”, the entry for “Physical examination”;

vi. Under “Hindfoot fracture:”, both entries for “Physical examination”;

f. Under “Body Part: Ankle and Foot, Job Title: Trackman”:

i. Under “Ankle fracture:”, the first entry for “Physical examination—range of motion”;

ii. Under “Ankylosis, ankle:”, the first and third entries for “Physical examination—range of motion”;

iii. Under “Arthritis, subtalar joint (hindfoot):”, the entry for “Physical examination”;

iv. Under “Arthritis, talonavicular joint (hindfoot):”, the entry for “Physical examination”;

v. Under “Arthritis, ankle:”, the entry for “Physical examination”;

vi. Under “Hindfoot fracture:”, both entries for “Physical examination”;

g. Under “Body Part: Ankle and Foot, Job Title: Machinist”:

i. Under “Ankle fracture:”, the entry for “Physical examination”;

ii. Under “Ankylosis, ankle:”, the first and third entries for “Physical examination—range of motion”;

iii. Under “Arthritis, subtalar joint (hindfoot):”, the entry for “Physical examination”;

iv. Under “Arthritis, talonavicular joint (hindfoot):”, the entry for “Physical examination”;

v. Under “Arthritis, ankle:”, the entry for “Physical examination”;

vi. Under “Hindfoot fracture:”, both entries for “Physical examination”;

h. Under “Body Part: Ankle and Foot, Job Title: Shop Laborer”:

i. Under “Ankle fracture:”, the entry for “Physical examination”;

ii. Under “Ankylosis, ankle:”, the first and third entries for “Physical examination—range of motion”;

iii. Under “Arthritis, subtalar joint (hindfoot):”, the entry for “Physical examination”;

iv. Under “Arthritis, talonavicular joint (hindfoot):”, the entry for “Physical examination”;

v. Under “Arthritis, ankle:”, the entry for “Physical examination”;

vi. Under “Hindfoot fracture:”, both entries for “Physical examination”;

i. Under “Body Part: Ankle and Foot, Job Title: Sales Representative”:

i. Under “Arthritis, ankle:”, the entry for “Physical examination”;

ii. Under “Hindfoot fracture:”, both entries for “Physical examination”.

[FR Doc. 2023-19567 Filed 9-7-23; 8:45 am]

BILLING CODE 0099-10-P